DEPARTMENT OF COMMERCE

International Trade Administration

[C-489-840]

Common Alloy Aluminum Sheet From the Republic of Turkey: Final Results of Countervailing Duty Administrative Review, 2020-2021

SUMMARY: The U.S. Department of Commerce (Commerce) determines that countervailable subsidies are being provided to certain producers and exporters of common alloy aluminum sheet (aluminum sheet) from the Republic of Turkey (Turkey). The period of review is August 14, 2020, through December 31, 2021.

DATES: Applicable November 2, 2023.

FOR FURTHER INFORMATION CONTACT: Dan Alexander, AD/CVD Operations, Office VII, Enforcement and Compliance, International Trade Administration, U.S. Department of Commerce, 1401 Constitution Avenue NW, Washington, DC 20230; telephone: (202) 482-4313.

Background

Commerce published the Preliminary Results of this review on May 10, 2023.¹ On August 24, 2023, Commerce extended the final results of this review to October 26, 2023.² For a complete description of the events that occurred since the Preliminary Results, see the Issues and Decision Memorandum.³

¹ See Common Alloy Aluminum Sheet from the Republic of Turkey: Preliminary Results of the 2020-2021 Administrative Review, 88 FR 30092 (May 10, 2023) (Preliminary Results), and accompanying Preliminary Decision Memorandum.

² See Memorandum, “Third Extension of Deadline for Final Results of Countervailing Duty Administrative Review,” dated September 28, 2023.

³ See Memorandum, “Issues and Decision Memorandum for the Final Results in the Countervailing Duty Administration Review of Common Alloy Aluminum Sheet from the Republic of Turkey; 2020-2021,” dated concurrently with, and hereby adopted by, this notice (Issues and Decision Memorandum).

Scope of the Order ⁴

⁴ See Common Alloy Aluminum Sheet from Bahrain, India, and the Republic of Turkey: Countervailing Duty Orders, 86 FR 22144 (April 27, 2021) (Order).

The product covered by this Order is aluminum sheet from Turkey. For a complete description of the scope of this Order, see the Issues and Decision Memorandum.

Analysis of Comments Received

All issues raised by the interested parties in their case and rebuttal briefs are addressed in the Issues and Decision Memorandum. A list of these issues is provided in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Methodology

Commerce conducted this administrative review in accordance with section 751(a)(1)(A) of the Tariff Act of 1930, as amended (the Act). For each of the subsidy programs found countervailable, we find that there is a subsidy, i.e., a government-provided financial contribution that gives rise to a benefit to the recipient, and that the subsidy is specific.⁵ For a full description of the methodology underlying all of Commerce's conclusions, including our reliance, in part, on facts otherwise available, including adverse facts available, pursuant to sections 776(a) and (b) of the Act, see the Issues and Decision Memorandum.

⁵ See sections 771(5)(B) and (D) of the Act regarding financial contribution; section 771(5)(E) of the Act regarding benefit; and section 771(5A) of the Act regarding specificity.

Changes Since the Preliminary Results

Based on our review of the record and comments received from interested parties regarding our Preliminary Results, and for the reasons explained in the Issues and Decision Memorandum, Commerce revised the calculations for the net countervailable subsidy rates for these final results of review.

Companies Not Selected for Individual Review

The statute and Commerce's regulations do not address the establishment of a rate to be applied to companies not selected for individual examination when Commerce limits its examination in an administrative review pursuant to section 777A(c)(2) of the Act. Generally, Commerce looks to section 705(c)(5) of the Act, which provides instructions for determining the all-others rate in an investigation, for guidance when calculating the rate for companies which were not selected for individual examination in an administrative review. Under section 705(c)(5)(A) of the Act, the all-others rate is normally an amount equal to the weighted average of the countervailable subsidy rates established for exporters and producers individually investigated, excluding any zero or de minimis countervailable subsidy rates, and any rates determined entirely on the basis of facts available.

There is one company for which a review was requested and not rescinded, and which was not selected as a mandatory respondent or found to be cross owned with a mandatory respondent: P.M.S. Metal Profil Aluminyum Sanayi Ve Ticaret A.S.

Assan and Teknik received countervailable subsidies that are above de minimis and are not based entirely on facts available for 2020.⁶ Commerce calculated the all-others' rate using a simple average of the individual estimated subsidy rates calculated for the examined respondents.⁷ Assan and Teknik received countervailable subsidies that are above de minimis and are not based entirely on facts available for 2021. Therefore, we calculated the all-others' rate using a simple average of the individual estimated subsidy rates calculated for the examined respondents.⁸

⁶ See Memorandum, “Calculation of Subsidy Rate for Non-Selected Companies Under Review,” dated concurrently with this memorandum.

⁷ With two respondents under examination, Commerce normally calculates (A) a weighted average of the estimated subsidy rates calculated for the examined respondents; (B) a simple average of the estimated subsidy rates calculated for the examined respondents; and (C) a weighted average of the estimated subsidy rates calculated for the examined respondents using each company's publicly ranged U.S. sale quantities for the merchandise under consideration. Commerce then compares (B) and (C) to (A) and selects the rate closest to (A) as the most appropriate rate for all other producers and exporters. See, e.g., Ball Bearings and Parts Thereof from France, Germany, Italy, Japan, and the United Kingdom: Final Results of Antidumping Duty Administrative Reviews, Final Results of Changed Circumstances Review, and Revocation of an Order in Part, 75 FR 53661, 53663 (September 1, 2010). Because complete publicly ranged sales data was not available, Commerce could not follow its normal methodology.Therefore, we used a simple average of the estimated subsidy rates calculated for the examined respondents.

⁸ Id.

Final Results of the Administrative Review

Commerce determines the net countervailable subsidy rates for the period August 14, 2020, through December 31, 2021, to be as follows:

⁹ Commerce has found Kibar Holding to be cross-owned with Assan Aluminyum Sanayi ve Ticaret A.S., pursuant to 19 CFR 351.525(b)(6)(vi); see Common Alloy Aluminum Sheet From the Republic of Turkey: Final Affirmative Countervailing Duty Determination and Final Affirmative Determination of Critical Circumstances, in Part, 86 FR 13315 (March 8, 2021). We also note that Assan has an affiliated trading company through which it exported certain subject merchandise during the POR, Kibar Dis. Kibar Dis was not selected as a mandatory respondent, but was examined in the context of Assan. Therefore, there is not an established CVD rate for Kibar Dis. Instead, entries of subject merchandise exported by Kibar Dis will receive the rate of the producer listed on the U.S. Customs and Border Protection (CBP) entry form.

Company | Subsidy rate (percent ad valorem) 2020 | Subsidy rate (percent ad valorem) 2021
Assan Aluminyum Sanayi ve Ticaret A.S ⁹ | 3.29 | 1.15
Teknik Aluminyum Sanayi A.S | 1.08 | 0.69
Companies Not Selected for Individual Review | 2.19 | 0.92

Disclosure

Commerce intends to disclose the calculations and analysis performed for these final results of review within five days of the date of publication of this notice in the Federal Register, in accordance with 19 CFR 351.224(b).

Assessment Rate

Consistent with section 751(a)(2)(C) of the Act and 19 CFR 351.212(b)(2), upon issuance of the final results, Commerce shall determine, and Customs and Border Protection shall assess, countervailing duties on all appropriate entries covered by this review. Commerce intends to issue assessment instructions to U.S. Customs and Border Protection (CBP) no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(1) of the Act, we also intend to instruct CBP to collect cash deposits of estimated countervailing duties in the amounts shown above for the above-listed companies with regard to shipments of subject merchandise entered, or withdrawn from warehouse, for consumption on or after the date of publication of these final results of review. For all non-reviewed firms, CBP will continue to collect cash deposits of estimated countervailing duties at the all-others rate or the most recent company-specific rate applicable to the company, as appropriate. These cash deposit requirements, effective upon publication of these final results, shall remain in effect until further notice.

Administrative Protective Order

This notice also serves as a final reminder to parties subject to an administrative protective order (APO) of their responsibility concerning the disposition of proprietary information disclosed under APO in accordance with 19 CFR 351.305(a)(3). Timely written notification of the return or destruction of APO materials or conversion to judicial protective order, is hereby requested. Failure to comply with the regulations and terms of an APO is a sanctionable violation.

Notification to Interested Parties

These final results are issued and published in accordance with sections 751(a)(1) and 777(i)(1) of the Act and 19 CFR 351.221(b)(5).

Dated: October 26, 2023.
Lisa W. Wang,
Assistant Secretary for Enforcement and Compliance.

Appendix

List of Topics Discussed in the Issues and Decision Memorandum

I. Summary

II. Background

III. Changes Since the Preliminary Results

IV. Scope of the Order

V. Use of Facts Available and Application of Adverse Inferences

VI. Subsidies Valuation Information

VII. Analysis of Programs

VIII. Discussion of the Issues

Comment 1: Whether Commerce Should Revise Certain of Assan's Sales Denominators

Comment 2: Whether the “Other Self-Reported Subsidies” Remain Countervailable Subsidies

Comment 3: Whether Commerce Should Remove the Subsidy Rate Calculated for the Program Unemployment Insurance Law No. 4447

Comment 4: Whether Commerce Should Correct Certain Errors Regarding Loan Calculations

Comment 5: Whether Commerce Should Revise Certain of Teknik's Sales Denominators

Comment 6: Whether Commerce Should Revise Certain Calculations Regarding Assistance to Offset Costs Related to the Antidumping and Countervailing Duty Investigations

IX. Recommendation

[FR Doc. 2023-24254 Filed 11-1-23; 8:45 am]

BILLING CODE 3510-DS-P